DEPARTMENT OF COMMERCE

National Oceanic and Atmospheric Administration

Proposed Information Collection; Comment Request; West Coast Region Vessel Monitoring System and Pre-Trip Reporting System Requirements

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before June 1, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Rachael Wadsworth, National Marine Fisheries Service West Coast Region (NMFS WCR), 7600 Sand Point Way NE, Building 1, Seattle, WA 98115; (562) 980-4036; Rachael.Wadsworth@noaa.gov.

SUPPLEMENTARY INFORMATION:

I. Abstract

The National Marine Fisheries Service West Coast Region Sustainable Fisheries Division (SFD) implemented both international and domestic regulations to require Vessel Monitoring Systems and pre-trip notifications on U.S. vessels fishing in the eastern Pacific Ocean (EPO). Further details on these regulations, authorizing laws, and proposed changes are described below.

International regulations: Collection of this information is necessary for the U.S. to satisfy its international obligations under the Convention for the Strengthening of the Inter-American Tropical Tuna Commission (IATTC), established by the 1949 Convention between the United States of America and the Republic of Costa Rica (Antigua Convention). As a Party to the Antigua Convention and a member of the IATTC, the United States is legally bound to implement decisions of the IATTC under the Tuna Conventions Act, as amended. At its 87th meeting in July 2014, the IATTC adopted Resolution C-14-02 (Establishment of a Vessel Monitoring System). Following this meeting, the National Marine Fisheries Service (NMFS) published a rule to implement VMS requirements and to require that commercial fishing vessels 24 meters or more in overall length and engaging in fishing activities for tuna or tuna-like species in the Convention Area (80 FR 60533). The international regulations are found at 50 CFR 300 Subpart C. There are no proposed changes to these regulations.

Domestic regulations: The Magnuson-Stevens Fishery Conservation and Management Act (MSA) established regional fishery management councils, including the Pacific Fishery Management Council (Pacific Council), to develop fishery management plans for fisheries in the U.S. exclusive economic zone (EEZ). These plans, if approved by the Secretary of Commerce, are implemented by Federal regulations, which are enforced by the National Oceanic and Atmospheric Administration's (NOAA's) NMFS and the U.S. Coast Guard (USCG) with the cooperation of state agencies to the extent possible. The Pacific Council submitted the Fishery Management Plan for U.S. West Coast Fisheries for Highly Migratory Species (HMS FMP) for approval by the Secretary of Commerce. On February 4, 2004, the Secretary partially approved the HMS FMP. On April 7, 2004, NMFS published a final rule to implement the approved portions of the HMS FMP (69 FR 18444) including VMS and pre-trip call-in notifications for longline vessel owners and operators; this element became effective on February 10, 2005. On July 9, 2015, NMFS published a final rule to require the use of a NMFS-approved VMS and to institute a 48-hour pre-trip call-in notification requirement for drift gillnet (DGN) vessel owners/operators (80 FR 32465). The domestic regulations are found at 50 CFR 660 Subpart K. There are no proposed changes to these regulations.

The reports included in the regulations are further detailed below.

VMS vessel location reports: The VMS is an automated, satellite-based system that assists the NMFS Office of Law Enforcement (OLE) and the USCG in reliable and cost-effective monitoring of compliance with closed areas and pre-trip reporting requirements, such as those imposed for the purposes of placing observers on vessels. VMS vessel location reports are used to facilitate enforcement regarding commercial fishing vessel compliance with prohibited or restricted fishing areas in the EPO. The reports provide OLE and the USCG real-time vessel location and activity information. The VMS reports also can be used to check the accuracy of vessel position information reported by the vessel operator in the daily fishing logbooks required by the regulations.

Installation/activation reports are used to provide OLE with information about hardware installed and the communication service provider that will be used by the vessel operator. Specific information that links a permitted vessel with a certain transmitting unit and communication service is necessary to ensure that automatic position reports will be received properly by NMFS and to identify the unique signature for each VMS unit. In the event that there are any problems, NMFS will need to have ready access to a database that links owner information with installation information. NMFS can then apply troubleshooting techniques and, as necessary, contact the vessel operator and discern whether the problem is associated with the transmitting hardware or the service provider. This is not expected to occur more than once per year.

Position reports are transmitted 24 hours per day and provide OLE and USCG with real-time vessel location and activity information. When an operator is aware that the transmission of automatic position reports has been interrupted, or when notified by OLE that automatic position reports are not being received, they must contact OLE and follow instructions provided.

“On/off reports”, also known as exemption reports, permit the vessel owner/operator to power off the VMS unit while the vessel is at port, or after the end of the fishing season, provided that the vessel owner/operator notifies OLE and receives OLE confirmation in advance of each such shutdown and each time the VMS unit is subsequently turned back on. These reports allow flexibility to fishery participants while providing OLE with the information needed to determine why a position report is not being received from the vessel.

Declaration Reports are only required under domestic regulations and are provided by vessel owners/operators to OLE before the vessel leaves port to fish in state or federal waters. These are used to determine which vessels may be at-sea at any given time and when to expect VMS position reports. NOAA Fisheries will retain control over the information collected and safeguard it from improper access, modification, and destruction, consistent with NOAA standards for confidentiality, privacy, and electronic information.

II. Method of Collection

VMS vessel location reports: Electronic VMS shipboard position is communicated between the shipboard VMS unit and the monitoring agency's fishery monitoring center. Position reports are transferred automatically at a specified frequency and received via a satellite communication system by NOAA.

Installation/activation reports: Written activation reports may be submitted via mail, facsimile, or email to the Special Agent in Charge (SAC), the point of contact for the OLE.

Pre-trip notification reports: These reports are submitted by telephone or email to NMFS or a designated observer service provider.

III. Data

OMB Control Number: 0648-0498.

Form Number(s): None.

Type of Review: Regular (extension of a current information collection).

Affected Public: Business or other for-profit organizations.

Estimated Number of Respondents: 49.

Estimated Time per Response: VMS Unit Install—4 hours; Annual Maintenance/Repair of VMS Unit—1 hour; Installation/Activation Reports—5 min; “On-Off” Reports—5 min; Pre-Trip Notifications—5 min.

Estimated Total Annual Burden Hours: 145 hours.

Estimated Total Annual Cost to Public: $113,175.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-06919 Filed 4-1-20; 8:45 am]

BILLING CODE 3510-22-P